DEPARTMENT OF ENERGY

Office of Energy Efficiency and Renewable Energy

“Grand Challenge” for Basic and Applied Research in Hydrogen Storage; Solicitation Number DE-PS36-03GO93013

AGENCY: Golden Field Office, U.S. Department of Energy (DOE).

ACTION: Notice of issuance of solicitation for financial assistance applications.

SUMMARY: The Office of Hydrogen, Fuel Cell, and Infrastructure Technologies of the Department of Energy (DOE) Office of Energy Efficiency and Renewable Energy is soliciting financial assistance Applications with the objective of supporting industry efforts and the President's Hydrogen Fuel Initiative in developing a path to a hydrogen economy. Under this Solicitation, DOE is seeking Applications for basic and applied research in hydrogen storage materials technologies. DOE intends to provide financial support under provisions of the Hydrogen Future Act of 1996.

DATES: The Solicitation was issued on July 24, 2003 with a closing date of September 30, 2003.

ADDRESSES: To obtain a copy of the Solicitation, interested parties should access the DOE Industry Interactive Procurement System (IIPS) web site. The Solicitation can be obtained directly through IIPS at http://e-center.doe.gov by browsing opportunities by Program Office, Financial Assistance, Golden Field Office, and then selecting this Solicitation number. DOE will not issue paper copies of the Solicitation.

FOR FURTHER INFORMATION CONTACT: James Damm, Contracting Officer, via facsimile to (303) 275-4788 or electronically to h2storage@go.doe.gov. Solicitation questions must be submitted through IIPS per the instructions contained in the Solicitation. Responses to questions will be posted on the IIPS web site. Further information on DOE's Hydrogen, Fuel Cells, and Infrastructure Technologies Program can be viewed at http://www.eere.energy.gov/hydrogenandfuelcells.

SUPPLEMENTARY INFORMATION: Under this Solicitation, DOE is issuing a “Grand Challenge” to the scientific community by soliciting Applications for research, development and demonstration of hydrogen storage materials and technologies. In addition to applied research and development, Applications can include substantial basic research aimed at improving the understanding of the fundamental mechanisms of hydrogen storage in materials. This solicitation requests applications in two Categories.

Category 1, Research and development to be conducted by virtual Centers of Excellence led by DOE national laboratories and including universities, industry, and/or other federal/national laboratories as partners. Focus areas are Metal hydrides, Chemical hydrides, and Carbon-based hydrogen storage materials. Only DOE national laboratories may submit joint application packages in response to Category 1. The proposed university and industry efforts must be part of those application packages.

Category 2, Research and development through cooperative agreements in the following areas: New materials or technologies for hydrogen storage; Compressed and liquid hydrogen tank technologies; and Off-board hydrogen storage systems. Category 2 is open to Applicants from universities and industry; federal or national laboratories may be partners.

Awards under this Solicitation will be Cooperative Agreements with terms of three to five years beginning in fiscal year 2004. DOE anticipates selecting 15 to 20 Applications for negotiation of Award. Subject to the availability of annual congressional appropriations, the total cumulative DOE funding available under this Solicitation for all projects is anticipated to be between $95 million and $125 million over the five-year period. The minimum required cost share varies with the type of Applicant and type of proposed project and is specified in the Solicitation along with specific application instructions.

Issued in Golden, Colorado, on July 25, 2003.
Jerry L. Zimmer,
Director, Office of Acquisition and Financial Assistance.

[FR Doc. 03-19710 Filed 8-4-03; 8:45 am]

BILLING CODE 6450-01-M